POSTAL REGULATORY COMMISSION.

[Docket No. ACR2019; Order No. 5420]

FY 2019 Annual Compliance Report

AGENCY: Postal Regulatory Commission.

ACTION: Notice.

SUMMARY: The Commission is noticing a recent procedural schedule change extending the comment due date for reply comments in this docket. This notice informs the public of the new filing date for reply comments.

DATES: Comments are due: February 18, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On February 6, 2020, United Parcel Service, Inc. (UPS) filed a motion requesting an extension of time to file its reply comments in the instant docket.¹ The reply comment deadline is February 10, 2020. Motion at 1. UPS requests an extension until February 18, 2020. Id. UPS states that pursuant to the Commission's Order No. 5416 ² granting UPS access to certain non-public information, its counsel and consultants have collected the non-public information requested, but will require additional time to analyze that information. Id. UPS states that this request will neither significantly delay the proceeding nor adversely affect any participant.

¹ Motion of United Parcel Service, Inc. for Extension to File Reply Comments, February 6, 2020 (Motion).

² Order Granting Motion for Access, January 29, 2020 (Order No. 5416).

In consideration of UPS's request, and to avoid any potential adverse impact on other participants, the Commission shall extend the deadline for all reply comments until February 18, 2020.

It is ordered:

1. United Parcel Service, Inc.'s Motion for an Extension to File Reply Comments, filed February 6, 2020, is granted.

2. Reply comments are now due no on or before February 18, 2020.

3. The Secretary shall arrange for publication of this order in the Federal Register.

By the Commission.
Erica A. Barker,
Secretary.

[FR Doc. 2020-02840 Filed 2-12-20; 8:45 am]

BILLING CODE 7710-FW-P